SMALL BUSINESS ADMINISTRATION

[Disaster Declaration # 10203 and # 10204]

Texas Disaster Number TX-00066

AGENCY: Small Business Administration.

ACTION: Amendment 3.

SUMMARY: This is an amendment of the Presidential declaration of a major disaster for the State of Texas (FEMA-1606-DR), dated 09/24/2005.

Incident: Hurricane Rita.

Incident Period: 09/23/2005 through 10/14/2005.

Effective Date: 10/25/2005.

Physical Loan Application Deadline Date: 01/11/2006.

EIDL Loan Application Deadline Date: 06/26/2006.

ADDRESSES: Submit completed loan applications to: Small Business Administration, National Processing and Disbursement Center, 14925 Kingsport Road, Fort Worth, TX 76155.

FOR FURTHER INFORMATION CONTACT: A. Escobar, Office of Disaster Assistance, Small Business Administration, 409 3rd Street, Suite 6050, Washington, DC 20416.

SUPPLEMENTARY INFORMATION: The notice of the President's major disaster declaration for the State of Texas, dated 09/24/2005, is hereby amended to extend the deadline for filing applications for physical damages as a result of this disaster to 01/11/2006.

All other information in the original declaration remains unchanged.

(Catalog of Federal Domestic Assistance Numbers 59002 and 59008)
Herbert L. Mitchell,
Associate Administrator for Disaster Assistance.

[FR Doc. 05-21957 Filed 11-2-05; 8:45 am]

BILLING CODE 8025-01-P